INTERNATIONAL TRADE COMMISSION

[Investigation Nos. 731-TA-1043-1045 (Review)]

Polyethylene Retail Carrier Bags From China, Malaysia, and Thailand; Determinations

On the basis of the record ¹ developed in the subject five-year reviews, the United States International Trade Commission (Commission) determines, pursuant to section 751(c) of the Tariff Act of 1930 (19 U.S.C. 1675(c)), that revocation of the antidumping duty orders on polyethylene retail carrier bags from China, Malaysia, and Thailand would be likely to lead to continuation or recurrence of material injury to an industry in the United States within a reasonably foreseeable time.

¹ The record is defined in sec. 207.2(f) of the Commission's Rules of Practice and Procedure (19 CFR 207.2(f)).

Background

The Commission instituted these reviews on July 1, 2009 (74 FR 31750, July 2, 2009) and determined on October 5, 2009 that it would conduct full reviews (74 FR 54069, October 21, 2009). Notice of the scheduling of the Commission's reviews and of a public hearing to be held in connection therewith was given by posting copies of the notice in the Office of the Secretary, U.S. International Trade Commission, Washington, DC, and by publishing the notice in the Federal Register on November 23, 2009 (74 F.R. 61172). The hearing was held in Washington, DC, on April 27, 2010, and all persons who requested the opportunity were permitted to appear in person or by counsel.

The Commission transmitted its determinations in these reviews to the Secretary of Commerce on June 22, 2010. The views of the Commission are contained in USITC Publication 4160 (June 2010), entitled Polyethylene Retail Carrier Bags from China, Malaysia, and Thailand: Investigation Nos. 731-TA-1043-1045 (Review).

By order of the Commission.
Issued: June 22, 2010.
Marilyn R. Abbott,
Secretary to the Commission.

[FR Doc. 2010-15664 Filed 6-25-10; 8:45 am]

BILLING CODE 7020-02-P